DEPARTMENT OF COMMERCE

International Trade Administration

[C-560-839]

Mattresses From Indonesia: Postponement of Preliminary Determination in the Countervailing Duty Investigation

AGENCY: Enforcement and Compliance, International Trade Administration, Department of Commerce.

DATES: Applicable October 5, 2023.

FOR FURTHER INFORMATION CONTACT: Natasia Harrison and Harrison Tanchuck, AD/CVD Operations, Enforcement and Compliance, International Trade Administration, U.S. Department of Commerce, 1401 Constitution Avenue NW, Washington, DC 20230; telephone: (202) 482-1240 and (202) 482-7421, respectively.

SUPPLEMENTARY INFORMATION:

Background

On August 17, 2023, the U.S. Department of Commerce (Commerce) initiated a countervailing duty (CVD) investigation of imports of mattresses from Indonesia.¹ Currently, the preliminary determination is due no later than October 23, 2023.

¹ See Mattresses from Indonesia: Initiation of Countervailing Duty Investigation, 88 FR 57412 (August 23, 2023).

Postponement of Preliminary Determination

Section 703(b)(1) of the Tariff Act of 1930, as amended (the Act), requires Commerce to issue the preliminary determination in a countervailing duty investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On September 22, 2023, the petitioners ² submitted a timely request that Commerce postpone the preliminary CVD determination.³ The petitioners stated that they request postponement so that the petitioners will have an adequate opportunity to submit rebuttal factual information and Commerce will have adequate time to review the data provided in the questionnaire responses and issue supplemental questionnaires prior to the issuance of the preliminary determination.⁴ In accordance with 19 CFR 351.205(e), the petitioners have stated the reasons for requesting a postponement of the preliminary determination, and Commerce finds no compelling reason to deny the request. Therefore, in accordance with section 703(c)(1)(A) of the Act, Commerce is postponing the deadline for the preliminary determination to no later than 130 days after the date on which this investigation was initiated, i.e., December 26, 2023.⁵ Pursuant to section 705(a)(1) of the Act and 19 CFR 351.210(b)(1), the deadline for the final determination of this investigation will continue to be 75 days after the date of the preliminary determination.

² The petitioners are Brooklyn Bedding; Carpenter Co.; Corsicana Mattress Company; Future Foam Inc.; FXI, Inc.; Kolcraft Enterprises Inc.; Leggett & Platt, Incorporated; Serta Simmons Bedding Inc.; Southerland, Inc.; Tempur Sealy International; the International Brotherhood of Teamsters; and the United Steel, Paper and Forestry, Rubber, Manufacturing, Energy, Allied Industrial and Service Workers International Union.

³ See Petitioners' Letter, “Request to Extend CVD Preliminary Determination,” dated September 22, 2023.

⁴ Id.

⁵ Postponing the preliminary determination to 130 days after initiation would place the deadline on Monday, December 25, 2023. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: September 27, 2023.
Lisa W. Wang,
Assistant Secretary for Enforcement and Compliance.

[FR Doc. 2023-22133 Filed 10-4-23; 8:45 am]

BILLING CODE 3510-DS-P